FEDERAL COMMUNICATIONS COMMISSION

47 CFR Part 73

[DA No. 00-1259; MM Docket No. 98-128; RM-9308 and RM-9385]

Radio Broadcasting Services; Crystal Falls and Republic, MI

AGENCY: Federal Communications Commission.

ACTION: Final rule.

SUMMARY: This document allots Channel 235A at Crystal Falls, Michigan, in response to a petition filed by Results Broadcasting of Iron Mountain, Inc. See 63 FR 40253, July 28, 1998. The coordinates for Channel 235A at Crystal Falls are 46-09-05 and 88-22-01. There is a site restriction 7.4 kilometers (4.6 miles) north of the community. In response to a counterproposal filed by Crystal Radio Company, we shall also allot Channel 244A at Republic, Michigan, at coordinates 46-26-09 and 88-07-12. There is a site restriction 11.5 kilometers (7.2 miles) west of the community. Canadian concurrence has been received for the allotment of Channel 244A at Republic. Although Canadian concurrence has been requested for the allotment of Channel 235A at Crystal Falls, notification has not yet been received. Therefore, operation with the facilities specified for Crystal Falls herein is subject to modification, suspension, or termination without right to hearing, if found by the Commission to be necessary in order to conform to the USA-Canada FM Broadcast Agreement or if specifically objected to by Canada. With this action, this proceeding is terminated.

EFFECTIVE DATE: July 24, 2000.

FOR FURTHER INFORMATION CONTACT: Kathleen Scheuerle, Mass Media Bureau, (202) 418-2180.

SUPPLEMENTARY INFORMATION: This is a summary of the Commission's Report and Order, MM Docket No. 98-128, adopted May 31, 2000, and released June 9, 2000. The full text of this Commission decision is available for inspection and copying during normal business hours in the Commission's Reference Center, 445 12th Street, SW, Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

47 CFR PART 73—[AMENDED]

1. The authority citation for part 73 continues to read as follows:

Authority: 47 U.S.C. 154, 303, 334 and 336.

§ 73.202 [Amended]

2. Section 73.202(b), the Table of FM Allotments under Michigan, is amended by adding Channel 235A at Crystal Falls and by adding Republic, Channel 244A.

Federal Communications Commission.
John A. Karousos,
Chief, Allocations Branch, Policy and Rules Division, Mass Media Bureau.

[FR Doc. 00-16680 Filed 6-30-00; 8:45 am]

BILLING CODE 6712-01-U